DEPARTMENT OF COMMERCE

National Oceanic and Atmospheric Administration

[Docket No. 041229366-5088-02]

RIN 0648-XC884

Fisheries of the Northeastern United States; Monkfish Fisheries Management Plan; Reallocation of 2013 Monkfish Research Set-Aside Days-at-Sea

AGENCY: National Marine Fisheries Service (NMFS), National Oceanic and Atmospheric Administration (NOAA), Commerce.

ACTION: Notice; reallocation of monkfish research set-aside days-at-sea.

SUMMARY: This notice announces the reallocation of 2013 Monkfish Research Set-Aside days-at-sea. These days are being reallocated because they were not awarded through the 2013 Monkfish Research Set-Aside Program grant process. The reallocated days-at-sea are available to conduct monkfish research activities during fishing year 2013 (May 1, 2013-April 30, 2014).

DATES: Effective November 4, 2013, through April 30, 2014. Days-at-sea reallocated through this Monkfish Research Set-Aside Program must be used by April 30, 2014.

ADDRESSES: Applications for an exempted fishing permit can be sent to the Regional Administrator, NMFS, Northeast Regional Office, 55 Great Republic Drive, Gloucester, MA 01930.

FOR FURTHER INFORMATION CONTACT: Jason Berthiaume, (978) 281-9177.

SUPPLEMENTARY INFORMATION: Amendment 2 to the Monkfish Fishery Management Plan (FMP) (70 FR 21927, April 28, 2005) established the Monkfish Research Set-Aside (RSA) Program, which annually sets-aside 500 of the total monkfish DAS as RSA DAS to be used to conduct monkfish research. Amendment 2 also established the Monkfish Exemption Program, which requires NMFS to make any unallocated RSA DAS available as exempted DAS. These exempted DAS may be used to conduct monkfish research activities during the current fishing year. In September 2012, NMFS published a notice announcing the 2013 Monkfish RSA Program, and solicited proposals for monkfish research activities to be conducted under the RSA program. Four proposals were received, and two were granted awards totaling 426 RSA DAS. As a result, there are 74 DAS that were not awarded and are now available as exempted DAS. Therefore, pursuant to the regulations governing the monkfish fishery at 50 CFR 648.92(c)(1)(v), NMFS is reallocating the unused 2013 RSA DAS as exempted DAS that may be used to conduct monkfish research during the remainder of fishing year 2013 (through April 30, 2014). Requests for exempted DAS must be submitted to NMFS along with a complete application for an exempted fishing permit. The exempted DAS differ from RSA DAS in that research must occur in conjunction with the exempted DAS. The exempted DAS cannot be used solely to generate funds. A summary of the requirements for submitting an exempted fishing permit are available online at: www.nero.noaa.gov/permits/forms/EFPLOAEEAAPossessionLOAGuidance.pdf.

Classification

This action is required by 50 CFR part 648 and is exempt from review under Executive Order 12866. Pursuant to 5 U.S.C.553(b)(B), there is good cause to waive prior notice and opportunity for public comment on this action, as notice and comment would be unnecessary and contrary to the public interest because the action is administrative in nature, and because it provides the public (i.e., researchers) the opportunity to reduce costs associated with conducting monkfish related research activities. Additionally, there is good cause under 5 U.S.C. 553(d)(3) to waive the 30-day delay in effective date because the action is administrative in nature.

Authority: 16 U.S.C. 1801 et seq.

Dated: October 30, 2013.
James P. Burgess,
Acting Deputy Director, Office of Sustainable Fisheries, National Marine Fisheries Service.

[FR Doc. 2013-26322 Filed 11-1-13; 8:45 am]

BILLING CODE 3510-22-P